DEPARTMENT OF TRANSPORTATION

Federal Aviation Administration

14 CFR Part 39

[Docket No. 2000-NM-53-AD]

RIN 2120-AA64

Airworthiness Directives; Airbus Model A330 and A340 Series Airplanes

AGENCY: Federal Aviation Administration, DOT.

ACTION: Notice of proposed rulemaking (NPRM).

SUMMARY: This document proposes the adoption of a new airworthiness directive (AD) that is applicable to all Airbus Model A330 and A340 series airplanes. This proposal would require repetitive ultrasonic inspections to detect corrosion of the retraction links of the main landing gear (MLG), and replacement of the retraction link with a new retraction link, if necessary. This proposal is prompted by issuance of mandatory continuing airworthiness information by a foreign civil airworthiness authority. The actions specified by the proposed AD are intended to detect and correct corrosion of the retraction link of the MLG, which could result in reduced structural integrity and possible collapse of the MLG.

DATES: Comments must be received by May 8, 2000.

ADDRESSES: Submit comments in triplicate to the Federal Aviation Administration (FAA), Transport Airplane Directorate, ANM-114, Attention: Rules Docket No. 2000-NM-53-AD, 1601 Lind Avenue, SW., Renton, Washington 98055-4056. Comments may be inspected at this location between 9 a.m. and 3 p.m., Monday through Friday, except Federal holidays.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Norman B. Martenson, Manager, International Branch, ANM-116, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-53-AD.” The postcard will be date stamped and returned to the commenter.

Availability of NPRMs

Any person may obtain a copy of this NPRM by submitting a request to the FAA, Transport Airplane Directorate, ANM-114, Attention: Rules Docket No. 2000-NM-53-AD, 1601 Lind Avenue, SW., Renton, Washington 98055-4056.

Discussion

The Direction Générale de l'Aviation Civile (DGAC), which is the airworthiness authority for France, recently notified the FAA that an unsafe condition may exist on all Airbus Model A330 and A340 series airplanes. The DGAC advises that, during a gear-down selection on an Airbus Model A330 series airplane, a retraction link (left-hand) of the main landing gear (MLG) ruptured. The MLG configuration of Airbus Model A330 series airplanes is similar in design to that of Airbus Model A340 series airplanes. Therefore, Airbus Model A340 series airplanes may be subject to the same unsafe condition revealed on the Airbus Model 330 series airplane. Investigation revealed that the internal face of the bore of the retraction link was heavily corroded. Such corrosion, if not detected and corrected, could result in reduced structural integrity and possible collapse of the MLG.

Explanation of Relevant Service Information

The manufacturer has issued Airbus Service Bulletins A330-32-3105, Revision 01, dated December 14, 1999 (for Model A330 series airplanes), and A340-32-4148, Revision 01, dated December 14, 1999 (for Model A340 series airplanes). These service bulletins describe procedures for repetitive ultrasonic inspections to detect corrosion of the left- and right-hand retraction links of the MLG, and replacement of the retraction link with a new retraction link, if necessary. The DGAC classified the Airbus service bulletins as mandatory and issued French airworthiness directives 2000-013-107(B) R1, dated February 9, 2000 (for Model A330 series airplanes), and 2000-015-132(B), dated January 12, 2000 (for Model A340 series airplanes), in order to assure the continued airworthiness of these airplanes in France.

The Airbus service bulletins reference Messier-Dowty Service Bulletins A33/34-32-151, Revision 3, including Appendix A, and A33/34-32-152, Revision 3, including Appendix A, each dated January 11, 2000, as additional sources of service information for accomplishing the repetitive ultrasonic inspections.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. The FAA has examined the findings of the DGAC, reviewed all available information, and determined that AD action is necessary for products of this type design that are certificated for operation in the United States.

Explanation of Requirements of Proposed Rule

Since an unsafe condition has been identified that is likely to exist or develop on other airplanes of the same type design registered in the United States, the proposed AD would require repetitive ultrasonic inspections to detect corrosion of the retraction links of the MLG, and replacement of the retraction link with a new retraction link, if necessary. The actions would be required to be accomplished in accordance with the Airbus service bulletins described previously.

Cost Impact

None of the airplanes affected by this action are on the U.S. Register. All airplanes included in the applicablity of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 1 work hour to accomplish the required inspection, at an average labor rate of $60 per work hour. Based on these figures, the cost impact of this AD would be $60 per airplane, per inspection cycle.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Airbus Industrie: Docket 2000-NM-53-AD.

Applicability: All Model A330 and A340 series airplanes, certificated in any category;

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To detect and correct corrosion of the retraction links of the main landing gear (MLG), which could result in reduced structural integrity and possible collapse of the MLG, accomplish the following:

Repetitive Ultrasonic Inspections

(a) Within 36 months time-in-service on any new retraction link, or within 2 months after the effective date of this AD, whichever occurs later, perform an ultrasonic inspection to detect corrosion of the retraction links left- and right-hand of the MLG, in accordance with Airbus Service Bulletin A330-32-3105, Revision 01, dated December 14, 1999 (for Model A330 series airplanes), or Airbus Service Bulletin A340-32-4148, Revision 01, dated December 14, 1999 (for Model A340 series airplanes), as applicable.

(1) If no corrosion is detected, or if corrosion is detected that is within the limits specified in the applicable service bulletin, repeat the inspection thereafter at intervals not to exceed 6 months.

(2) If any corrosion is detected that is outside the limits specified in the applicable service bulletin, replace the affected retraction link with a new retraction link at the time specified and in accordance with the procedures specified in the applicable service bulletin. Thereafter, repeat the inspection specified in paragraph (a) on any new retraction links, at the time specified in paragraph (a) of this AD.

Note 2: The Airbus service bulletins reference Messier-Dowty Service Bulletins A33/34-32-151, Revision 3, including Appendix A, and A33/34-32-152, Revision 3, including Appendix A, each dated January 11, 2000, as additional sources of service information for accomplishing the repetitive inspections.

Note 3: Although the inspection schedule of this AD applies to both left- and right-hand retraction links of the MLG, replacement of a retraction link, prior to scheduled replacement, would result in subsequent staggered inspections for the remainder of the retraction links.

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Note 5: The subject of this AD is addressed in French airworthiness directives 2000-013-107(B) R1, dated February 9, 2000, and 2000-015-132(B), dated January 12, 2000.

Issued in Renton, Washington, on April 3, 2000.
Donald L. Riggin,
Acting Manager, Transport Airplane Directorate, Aircraft Certification Service.

[FR Doc. 00-8687 Filed 4-6-00; 8:45 am]

BILLING CODE 4910-13-P